DEPARTMENT OF AGRICULTURE

Forest Service

Delta-Bienville Resource Advisory Committee

AGENCY: Forest Service, USDA.

ACTION: Notice of meeting. Date change.

SUMMARY: The Delta-Bienville Resource Advisory Committee (RAC) will meet in Forest, Mississippi. The committee is meeting as authorized under the Secure Rural Schools and Community Self-Determination Act (Pub. L. 110-343) and in compliance with the Federal Advisory Committee Act. The purpose of the meeting is to present proposed projects for discussion and approval.

DATES: The meeting date previously published in the Federal Register on August 9, 2013 is being changed and will be held September 23, 2013, at 6:00 p.m.; with an alternate date of September 24, 2013, at 6 p.m.

ADDRESSES: The meeting will be held at the Bienville Ranger District Work Center, Hwy 501 South, 935A South Raleigh Street, Forest, Mississippi. To verify date of meeting, please contact the RAC Coordinator listed in For Further Information Contact. Written comments may be submitted as described under Supplementary Information. All comments, including names and addresses, when provided, are placed in the record and are available for public inspection and copying. The public may inspect comments received at Bienville Ranger District Office. Visitors are encouraged to call ahead to facilitate entry into the building.

FOR FURTHER INFORMATION CONTACT: Nefisia Kittrell, RAC Coordinator, at 601-469-3811 or via email at nkittrell@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: Persons who wish to bring related matters to the attention of the Committee may file written statements with the Committee staff before or after the meeting. Written comments should be sent to Michael T. Esters, Designated Federal Officer, Bienville Ranger District Office, 3473 Hwy 35 South, Forest, Mississippi 39074. Comments may also be sent via email to mesters@fs.fed.us, or via facsimile to 601-469-2513.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: August 22, 2013.
Christopher Locke,
Acting District Ranger.

[FR Doc. 2013-20963 Filed 8-27-13; 8:45 am]

BILLING CODE 3410-11-P